DEPARTMENT OF COMMERCE

International Trade Administration

[Secretariat File No. USA-MEX-2011-1904-02]

North American Free Trade Agreement Binational Panel Reviews

AGENCY: NAFTA Secretariat, United States Section, International Trade Administration, Department of Commerce.

ACTION: Notice of completion of panel review of the Department of Commerce's final determination.

SUMMARY: Pursuant to the Decision and Order of the North American Free Trade Agreement (NAFTA) Binational Panel dated August 6, 2013, the panel review of the Department of Commerce's final determination of Light-Walled Rectangular Pipe and Tube from Mexico was completed on September 6, 2013.

FOR FURTHER INFORMATION CONTACT: Ellen Bohon, United States Secretary, NAFTA Secretariat, Suite 2061, 14th and Constitution Avenue, Washington, DC 20230, (202) 482-5438.

SUPPLEMENTARY INFORMATION: On August 6, 2013, 2012, the Binational Panel issued a Decision and Order affirming the U.S. Department of Commerce's final determination concerning Light-Walled Rectangular Pipe and Tube from Mexico. Pursuant to the Panel's Decision and Order, the Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective September 6, 2013.

Dated: September 20, 2013.
Ellen M. Bohon,
United States Secretary, NAFTA Secretariat.

[FR Doc. 2013-22713 Filed 9-19-13; 8:45 am]

BILLING CODE M